DEPARTMENT OF DEFENSE

Department of the Army

Performance Review Boards Membership

AGENCY: Department of the Army, DoD.

ACTION: Notice.

SUMMARY: Notice is given of the additional names of members of a Performance Review Board for the Department of the Army.

EFFECTIVE DATE: January 13, 2005.

FOR FURTHER INFORMATION CONTACT: Marilyn Ervin, U.S. Army Senior Executive Service Office, Assistant Secretary of the Army, Manpower & Reserve Affairs, 111 Army, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army Corps of Engineers are:

1. BG Merdith Temple, Commanding General, North Atlantic Division.

2. BG William T. Grisoli, Commanding General, Northwestern Division.

3. BG Robert Crear, Commanding General, Mississippi Valley Division.

4. BG Joseph Schroedel, Commanding General, South Pacific Division.

5. Mr. Fred Caver, Deputy Director of Civil Works, Directorate of Civil Works (HQ).

6. Ms. Patricia Rivers, Chief Environmental Division, Directorate of Military Programs (HQ).

7. Mr. Wilbert Berrios, Director of Corporate Information, Directorate of Corporate Information (HQ).

8. Mr. Mohan Singh, Regional Business Director, North Atlantic Division.

Brenda S. Bowen,
Army Federal Register Liaison Office.

[FR Doc. 05-1383 Filed 1-25-05; 8:45 am]

BILLING CODE 3710-08-M